DEPARTMENT OF TRANSPORTATION

Federal Aviation Administration

Notice of Intent To Rule on an Application 01-07-C-00-STL to Impose and Use the Revenue From a Passenger Facility Charge (PFC) at Lambert-St. Louis International Airport, St. Louis, MO

AGENCY: Federal Aviation Administration (FAA), DOT.

ACTION: Request for comments, notice of intent to rule on a PFC application.

SUMMARY: This document requests public comment on the supplementary material provided by the applicant, the City of St. Louis Airport Authority, in support of its application to the FAA for authority to impose and use the revenue from a PFC at Lambert-St. Louis International Airport under the provisions of the 49 U.S.C. 40117 and Part 158 of the Federal Aviation Regulations (14 CFR part 158).

DATES: Comments must be received on or before May 20, 2002.

ADDRESSES: Comments on this supplemental information may be mailed or delivered in triplicate to the FAA at the following address: Federal Aviation Administration, Central Region Airports Division, 901 Locust, Kansas City, MO 64106.

In addition, one copy of any comments submitted to the FAA must be mailed or delivered to Col. Leonard L. Griggs, Jr., Director of Airports, Lambert-St. Louis International Airport, at the following address: City of St. Louis Airport Authority, PO Box 10212, St. Louis, MO 63145.

FOR FURTHER INFORMATION CONTACT: Lorna Sandridge, PFC Program Manager, FAA, Central Region, 901 Locust, Kansas City, MO 64106, (816) 329-2641. The supplemental information may be reviewed in person at this same location.

SUPPLEMENTARY INFORMATION: The FAA originally requested public comment on this application in a notice published in the Federal Register at 66 FR 52474 dated October 15, 2001. The FAA now invites public comment on supplemental material provided by the applicant, the City, to the FAA after the original Federal Register comment period had closed and before the FAA issued its finding on the application, to the FAA in support of the City's application to impose and use the revenue from a PFC at STL for the northeast quadrant road. The supplemental material includes information that may have a bearing on the FAA's finding of the northeast quadrant road. The FAA will issue a decision on the City's application under the provisions of the Aviation Safety and Capacity Expansion Act of 1990 (Title IX of the Omnibus Budget Reconciliation Act of 1990) (Pub. L. 101-508) and part 158 of the Federal Aviation Regulations (14 CFR part 158) after this supplementary comment period has closed.

Background

As a part of the FAA's responsibilities with regard to rendering decisions on PFC applications, the FAA must determine that each approved project is adequately justified. After reviewing the application submitted by the City, the FAA found that further documentation was required to support a finding of adequate justification for the northeast quadrant road project. Accordingly, the FAA asked the City for information which the agency deemed to be a material supplement to the City's application provided after the close of the Federal Register comment period.

Any person may inspect the application and supplementary information described above in person at the FAA office listed above under FOR FURTHER INFORMATION CONTACT, and at the FAA's Passenger Facility Charge Branch office located at FAA Headquarters, 800 Independence Avenue, SW., Washington, DC, in room 619 (call (202) 267-3845 to arrange for access).

In addition, any person may, upon request, inspect the application, notice and supplemental information germane to the application in person at the offices of the City of St. Louis Airport Authority.

Issued in Kansas City, Missouri, on March 25, 2002.
George A. Hendon,
Manager, Airports Division, Central Region.

[FR Doc. 02-9410 Filed 4-17-02; 8:45 am]

BILLING CODE 4910-13-M